DEPARTMENT OF HEALTH AND HUMAN SERVICES

Centers for Disease Control and Prevention

Public Health Service Act, Delegation of Authority

Notice is hereby given that the Director, Centers for Disease Control and Prevention (CDC), has delegated to the Deputy Director for Infectious Diseases (DDID); the Director, Influenza Division, National Center for Immunization and Respiratory Diseases (NCIRD); and the COVID-19 Incident Manager, NCIRD, CDC, without authority to redelegate, the authority vested in the Director, CDC, under sections 361(a), (b), (c), and (d) and 362, Title III, of the Public Health Service Act (Control of Communicable Diseases) (42 U.S.C. 264 and 265 et seq.), as amended, to issue and sign quarantine, isolation and conditional release orders.

This redelegation shall terminate upon completion of the agency-wide activation in response to the 2019 novel Coronavirus outbreak.

This delegation became effective on March 25, 2020.

Robert McGowan,
Chief of Staff, CDC.

[FR Doc. 2020-07459 Filed 4-8-20; 8:45 am]

BILLING CODE 4160-18-P